DEPARTMENT OF LABOR

Employment and Training Administration

[TA-W-70,219]

Vescom Corporation, Baileyville, ME; Notice of Termination of Investigation

Pursuant to Section 223 of the Trade Act of 1974, as amended, an investigation was initiated in response to a petition filed on May 19, 2009 by a state agency representative on behalf of workers of Vescom Corporation, Baileyville, Maine.

The petitioner has requested that the petition be withdrawn. Consequently, the investigation has been terminated.

Signed at Washington, DC, this 26th day of August 2009.
Richard Church,
Certifying Officer, Division of Trade Adjustment Assistance.

[FR Doc. E9-29158 Filed 12-7-09; 8:45 am]

BILLING CODE 4510-FN-P